DEPARTMENT OF HEALTH AND HUMAN SERVICES

National Institutes of Health

National Institute of General Medical Sciences; Notice of Closed Meetings

Pursuant to section 10(d) of the Federal Advisory Committee Act, as amended (5 U.S.C. Appendix 2), notice is hereby given of the following meetings.

The meetings will be closed to the public in accordance with the provisions set forth in sections 552b(c)(4) and 552b(c)(6), Title 5 U.S.C., as amended. The grant applications and the discussions could disclose confidential trade secrets or commercial property such as patentable material, and personal information concerning individuals associated with the grant applications, the disclosure of which would constitute a clearly unwarranted invasion of personal privacy.

Name of Committee: National Institute of General Medical Sciences Special Emphasis Panel, 2009 Pioneer Award Pre-Application Review.

Date: March 13, 2009.

Time: 8 a.m. to 11:59 p.m.

Agenda: To review and evaluate pre-Applications for the 2009 Pioneer Award Program.

Place: National Institutes of Health, Natcher Building, 45 Center Drive, Bethesda, MD 20892. (Virtual Meeting)

Contact Person: Ravi Basavappa, PhD, Scientific Review Officer, Division of Cell Biology and Biophysics, National Institute of General Medical Sciences, National Institutes of Health, Natcher Building, Room 2AS19E, Bethesda, MD 20892, (301) 594-0828, basavapr@mail.nih.gov.

Name of Committee: National Institute of General Medical Sciences Special Emphasis Panel, MBRS SCORE Applications.

Date: March 13, 2009.

Time: 8 a.m. to 5 p.m.

Agenda: To review and evaluate grant applications.

Place: Hyatt Regency Bethesda, One Bethesda Metro Center, Bethesda, MD 20814.

Contact Person: John J. Laffan, PhD, Scientific Review Officer, Office of Scientific Review, National Institute of General Medical Sciences, National Institutes of Health, Natcher Building, Room 3AN18J, Bethesda, MD 20892, 301-594-2773, laffanjo@mail.nih.gov.

Name of Committee: National Institute of General Medical Sciences Special Emphasis Panel, ZGM1-MORE-4-RI.

Date: March 13, 2009.

Time: 8:30 a.m. to 5 p.m.

Agenda: To review and evaluate grant applications.

Place: One Washington Circle Hotel, 1 Washington Circle, NW., Washington, DC 20037.

Contact Person: Mona R. Trempe, PhD, Scientific Review Officer, Office of Scientific Review, National Institute of General Medical Sciences, National Institutes of Health, 45 Center Drive, Room 3AN12, Bethesda, MD 20892, 301-594-3998, trempemo@mail.nih.gov.

Name of Committee: National Institute of General Medical Sciences Special Emphasis Panel, E. coli Model Organisms Resource.

Date: March 13, 2009.

Time: 1 p.m. to 3 p.m.

Agenda: To review and evaluate grant applications.

Place: National Institutes of Health, Natcher Building, Room 3AN18, 45 Center Drive, Bethesda, MD 20892. (Telephone Conference Call)

Contact Person: Brian R. Pike, PhD, Scientific Review Officer, Office of Scientific Review, National Institute of General Medical Sciences, National Institutes of Health, 45 Center Drive, Room 3AN18, Bethesda, MD 20892, 301-594-3907, pikebr@mail.nih.gov.

Name of Committee: National Institute of General Medical Sciences Special Emphasis Panel, R13 Grant Applications.

Date: March 16, 2009.

Time: 8 a.m. to 5 p.m.

Agenda: To review and evaluate grant applications.

Place: National Institutes of Health, Natcher Building, Room 3AN18, 45 Center Drive, Bethesda, MD 20892. (Telephone Conference Call)

Contact Person: Margaret J. Weidman, PhD, Scientific Review Officer, Office of Scientific Review, National Institute of General Medical Sciences, National Institutes of Health, 45 Center Drive, Room 3AN18B, Bethesda, MD 20892, 301-594-3663, weidmanma@nigms.nih.gov.

(Catalogue of Federal Domestic Assistance Program Nos. 93.375, Minority Biomedical Research Support; 93.821, Cell Biology and Biophysics Research; 93.859, Pharmacology, Physiology, and Biological Chemistry Research; 93.862, Genetics and Developmental Biology Research; 93.88, Minority Access to Research Careers; 93.96, Special Minority Initiatives, National Institutes of Health, HHS)
Dated: February 13, 2009
Jennifer Spaeth,
Director, Office of Federal Advisory Committee Policy.

[FR Doc. E9-3707 Filed 2-20-09; 8:45 am]

BILLING CODE 4140-01-P